DEPARTMENT OF ENERGY

Federal Energy Regulatory Commission

[Project No. 2662-012; Project No. 12968-001]

Notice Updating Procedural Schedule for Licensing; FirstLight Hydro Generating Company, City of Norwich Department of Public Utilities

Take notice that the Hydropower Licensing Schedule for the Scotland Hydroelectric Project No. 2662 and Scotland Hydroelectric Project No. 12968 has been updated. Subsequent revisions to the schedule may be made as appropriate.

Milestone | Target date
Filing of Additional Information | July 7, 2011.
Issuance of the Better Adapted Statement Request | July 15, 2011.
Notice of Acceptance/Notice of Ready for Environmental Analysis | July 15, 2011.
Filing of recommendations, preliminary terms and conditions, and fishway prescriptions | September 13, 2011.
Filing of the Better Adapted Statement | September 13, 2011.
Commission issues EA | January 11, 2012.
Comments on EA | February 10, 2012.
Modified terms and conditions | April 10, 2012.

Dated: June 14, 2011.
Kimberly D. Bose,
Secretary.

[FR Doc. 2011-15261 Filed 6-17-11; 8:45 am]

BILLING CODE 6717-01-P